DEPARTMENT OF THE TREASURY

Departmental Offices; Proposed Collection; Comment Request

ACTION: Notice and request for comments.

SUMMARY: The Department of the Treasury, as part of its continuing effort to reduce paperwork and respondent burden, invites the general public and other Federal agencies to take this opportunity to comment on proposed and/or continuing information collections, as required by the Paperwork Reduction Act of 1995, Public Law 104-13 (44 U.S.C. 3506(c)(2)(A)). Currently, the Departmental Offices within the Department of the Treasury is soliciting comments concerning the servicer application for the Making Home Affordable.

DATES: Written comments should be received on or before August 10, 2009* to be assured of consideration.

ADDRESSES: Direct all written comments to Department of the Treasury, Kathleen Hutchinson, 1500 Pennsylvania Avenue, Washington, DC 20220.

FOR FURTHER INFORMATION CONTACT: Requests for additional information or copies of the form(s) and instructions should be directed as above.

SUPPLEMENTARY INFORMATION:

Title: TARP—Making Home Affordable Participants.

OMB Number: 1505-0216.

Abstract: Authorized under the Emergency Economic Stabilization Act (EESA) of 2008 (Pub. L. 110-343), the Department of the Treasury has implemented several aspects of the Troubled Asset Relief Program. Among these components is a voluntary foreclosure prevention program—Making Home Affordable (MHA) program, under which the Department will use TARP capital to lower the mortgage payments of qualifying borrowers. The Treasury will do this through agreements with mortgage servicers to modify loans on their systems. All servicers are eligible to participate in the program. The information will be used to set the servicers up on the data system, ensure that the servicers can be paid for the loan modifications that they undertake, check for compliance, and report out on the effectiveness of the program.

Current Actions: Continuation of application.

Type of Review: Extension.

Affected Public: Financial Institutions.

Estimated Number of Respondents: 360.

Estimated Total Annual Burden Hours: 198,880 hours.

Request for Comments: Comments submitted in response to this notice will be summarized and/or included in the request for OMB approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information.

Robert Dahl,
Treasury PRA Clearance Officer.

[FR Doc. E9-13666 Filed 6-10-09; 8:45 am]

BILLING CODE 4810-25-P